DEPARTMENT OF ENERGY

Federal Energy Regulatory Commission

Combined Notice of Filings #1

Take notice that the Commission received the following electric corporate filings:

Docket Numbers: EC23-10-000.

Applicants: Carson Hybrid Energy Storage LLC, Enery Holdings LLC, Carson Hybrid Energy Center LLC.

Description: Joint Application for Authorization Under Section 203 of the Federal Power Act of Carson Hybrid Energy Storage LLC, et al.

Filed Date: 10/21/22.

Accession Number: 20221021-5218.

Comment Date: 5 p.m. ET 11/14/22.

Docket Numbers: EC23-11-000.

Applicants: Washington County Power, LLC.

Description: Application for Authorization Under Section 203 of the Federal Power Act of Washington County Power, LLC.

Filed Date: 10/21/22.

Accession Number: 20221021-5221.

Comment Date: 5 p.m. ET 11/14/22.

Take notice that the Commission received the following electric rate filings:

Docket Numbers: ER10-1410-006; ER10-1823-004; ER16-1750-009; ER16-2601-007; ER17-2292-007; ER17-2381-006; ER19-1656-006; ER20-2123-004; ER20-2768-004.

Applicants: Greensville County Solar Project, LLC, Hardin Solar Energy LLC, Wilkinson Solar LLC, Scott-II Solar LLC, Southampton Solar, LLC, Summit Farms Solar, LLC, Eastern Shore Solar LLC, Dominion Energy Marketing, Inc., Virginia Electric and Power Company.

Description: Notice of Change in Status of Virginia Electric and Power Company, et al.

Filed Date: 10/21/22.

Accession Number: 20221021-5217.

Comment Date: 5 p.m. ET 11/14/22.

Docket Numbers: ER10-1618-017; ER10-1631-019; ER10-1854-019; ER10-1892-022; ER10-2678-020; ER10-2729-014; ER10-2739-035; ER10-2744-020; ER11-3320-019; ER13-2316-017; ER14-19-018; ER14-1219-014; ER16-1652-022; ER16-1732-013; ER16-2405-013; ER16-2406-014; ER17-989-012; ER17-990-012; ER17-992-012; ER17-993-012; ER17-1946-012; ER18-95-009; ER20-660-009; ER20-1440-005; ER21-202-001; ER21-1133-002; ER22-425-002; ER22-1241-001.

Applicants: REV Energy Marketing, LLC, Enerwise Global Technologies, LLC, Hummel Station, LLC, Centrica Business Solutions Optimize, LLC, Yards Creek Energy, LLC, Bolt Energy Marketing, LLC, Buchanan Energy Services Company, LLC, Helix Ironwood, LLC, Bath County Energy, LLC, Springdale Energy, LLC, Gans Energy, LLC, Chambersburg Energy, LLC, Rockford Power, LLC, Rockford Power II, LLC, Aurora Generation, LLC, LifeEnergy, LLC, Armstrong Power, LLC, West Deptford Energy, LLC, Seneca Generation, LLC, LSP University Park, LLC, Riverside Generating Company, L.L.C., LS Power Marketing, LLC, Buchanan Generation, LLC, Troy Energy, LLC, Columbia Energy LLC, Doswell Limited Partnership, University Park Energy, LLC, Rolling Hills Generating, L.L.C.

Description: Notice of Change in Status of Rolling Hills Generating, L.L.C., et al.

Filed Date: 10/21/22.

Accession Number: 20221021-5224.

Comment Date: 5 p.m. ET 11/14/22.

Docket Numbers: ER18-2358-005.

Applicants: GridLiance High Plains LLC, Southwest Power Pool, Inc.

Description: Compliance filing: Southwest Power Pool, Inc. submits tariff filing per 35: GridLiance—Compliance Filing in Response to Order issued in ER18-2358 to be effective 9/22/2022.

Filed Date: 10/24/22.

Accession Number: 20221024-5091.

Comment Date: 5 p.m. ET 11/14/22.

Docket Numbers: ER23-163-000.

Applicants: Illinois Power Resources Generating, LLC.

Description: Tariff Amendment: IPRG Notice of Cancellation of Reactive Rate Schedule to be effective 1/1/2023.

Filed Date: 10/21/22.

Accession Number: 20221021-5197.

Comment Date: 5 p.m. ET 11/14/22.

Docket Numbers: ER23-164-000.

Applicants: Nevada Power Company.

Description: § 205(d) Rate Filing: Rate Schedule No. 96 2nd Amended & Restated Navajo WTS Operating Agreement to be effective 12/21/2022.

Filed Date: 10/21/22.

Accession Number: 20221021-5202.

Comment Date: 5 p.m. ET 11/14/22.

Docket Numbers: ER23-165-000.

Applicants: ISO New England Inc., New England Power Company.

Description: § 205(d) Rate Filing: ISO New England Inc. submits tariff filing per 35.13(a)(2)(iii): New England Power Company; Revisions to Schedule 21-NEP to be effective 1/1/2023.

Filed Date: 10/24/22.

Accession Number: 20221024-5045.

Comment Date: 5 p.m. ET 11/14/22.

Docket Numbers: ER23-166-000.

Applicants: Energy Storage Resources, LLC.

Description: Baseline eTariff Filing: Baseline new to be effective 12/24/2022.

Filed Date: 10/24/22.

Accession Number: 20221024-5074.

Comment Date: 5 p.m. ET 11/14/22.

Docket Numbers: ER23-167-000.

Applicants: Cranberry Point Energy Storage, LLC.

Description: Baseline eTariff Filing: Baseline new to be effective 12/24/2022.

Filed Date: 10/24/22.

Accession Number: 20221024-5076.

Comment Date: 5 p.m. ET 11/14/22.

Docket Numbers: ER23-168-000.

Applicants: Cross Town Energy Storage, LLC.

Description: Baseline eTariff Filing: Baseline new to be effective 12/24/2022.

Filed Date: 10/24/22.

Accession Number: 20221024-5078.

Comment Date: 5 p.m. ET 11/14/22.

Docket Numbers: ER23-169-000.

Applicants: Midcontinent Independent System Operator, Inc.

Description: § 205(d) Rate Filing: 2022-10-24_Tariff True-Up for Seasonal and Accreditation Construct to be effective 9/1/2022.

Filed Date: 10/24/22.

Accession Number: 20221024-5083.

Comment Date: 5 p.m. ET 11/14/22.

Docket Numbers: ER23-170-000.

Applicants: Idaho Power Company.

Description: Compliance filing: Order 864 Compliance Filing Letter to be effective 1/27/2020.

Filed Date: 10/24/22.

Accession Number: 20221024-5086.

Comment Date: 5 p.m. ET 11/14/22.

Docket Numbers: ER23-171-000.

Applicants: Cheyenne Light, Fuel and Power Company.

Description: § 205(d) Rate Filing: Filing of E&P Agreement with Roundhouse Renewable Energy II, LLC to be effective 10/24/2022.

Filed Date: 10/24/22.

Accession Number: 20221024-5102.

Comment Date: 5 p.m. ET 11/14/22.

Docket Numbers: ER23-172-000.

Applicants: AEP Texas Inc.

Description: § 205(d) Rate Filing: AEPTX-Noria Hondo Solar Generation Interconnection Agreement to be effective 10/12/2022.

Filed Date: 10/24/22.

Accession Number: 20221024-5110.

Comment Date: 5 p.m. ET 11/14/22.

Docket Numbers: ER23-173-000.

Applicants: AEP Texas Inc.

Description: § 205(d) Rate Filing: AEPTX-Bordertown BESS Generation Interconnection Agreement to be effective 10/12/2022.

Filed Date: 10/24/22.

Accession Number: 20221024-5113.

Comment Date: 5 p.m. ET 11/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2022.
Debbie-Anne A. Reese,
Deputy Secretary.

[FR Doc. 2022-23507 Filed 10-27-22; 8:45 am]

BILLING CODE 6717-01-P